DEPARTMENT OF LABOR

Occupational Safety and Health Administration

[Docket No. OSHA-2022-0001]

Advisory Committee on Construction Safety and Health

AGENCY: Occupational Safety and Health Administration (OSHA), Labor.

ACTION: Request for nominations.

SUMMARY: The Secretary of Labor requests nominations for membership on the Advisory Committee for Construction Safety and Health (ACCSH).

DATES: Submit nominations for ACCSH membership by January 13, 2023.

ADDRESSES:

Nominations: You must submit nominations and supporting materials, identified by Docket No. OSHA-2022-0001, electronically at www.regulations.gov, which is the Federal e-Rulemaking Portal. Follow the online instructions for submissions.

Instructions: All submissions must include the agency name and the OSHA docket number for this Federal Register notice (Docket No. OSHA-2022-0001). OSHA will post all submissions, including personal information, in the public docket without change, which may be made available online at www.regulations.gov. Therefore, OSHA cautions interested parties about submitting information they do not want made available to the public, or submitting materials that contain personal information (either about themselves or others), such as Social Security numbers and birthdates. For further information on submitting nominations, see the “Submission requirements” heading in the section of this notice titled SUPPLEMENTARY INFORMATION.

Docket: To read or download nominations or other materials in the docket, go to www.regulations.gov. Documents in the docket are listed in the www.regulations.gov index; however, some information (e.g., copyrighted material) is not publicly available to read or download through the website. All submissions, including copyrighted material, are available for inspection through the OSHA Docket Office. Contact the OSHA Docket Office at (202) 693-2350 (TTY number: (877) 889-5627) for assistance in locating docket submissions.

FOR FURTHER INFORMATION CONTACT:

For press inquiries: Mr. Frank Meilinger, Director, OSHA Office of Communications; telephone: (202) 693-1999; email: meilinger.francis2@dol.gov.

For general information about ACCSH and ACCSH membership: Mr. Damon Bonneau, OSHA, Directorate of Construction; telephone: (202) 693-2020; email: bonneau.damon@dol.gov.

Copies of this Federal Register document: Electronic copies of this Federal Register document are available at www.regulations.gov. This document, as well as news releases and other relevant information are also available on the OSHA web page at www.osha.gov.

SUPPLEMENTARY INFORMATION: The Secretary of Labor invites interested persons to submit nominations for membership on ACCSH.

A. Background

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the CSA and OSHA regulations require the Assistant Secretary to consult with ACCSH before the agency proposes occupational safety and health standards affecting construction activities (40 U.S.C. 3704; 29 CFR 1911.10).

ACCSH operates in accordance with the Federal Advisory Committee Act (FACA), as amended (5 U.S.C. App. 2), and the implementing regulations (41 CFR 102-3 et seq.); and Department of Labor Manual Series Chapter 1-900 (8/31/2020). ACCSH generally meets two to four times a year.

B. ACCSH Membership

ACCSH consists of 15 members whom the Secretary appoints. ACCSH members generally serve two-year terms, unless they resign, cease to be qualified, become unable to serve, or the Secretary removes them (29 CFR 1912.3(e)). The Secretary may appoint ACCSH members to successive terms. No member of ACCSH, other than members who represent employers or employees, shall have an economic interest in any proposed rule that affects the construction industry (29 CFR 1912.6).

The categories of ACCSH membership are, and number of new members to be appointed to replace members whose terms will expire are:

• Five members who are qualified by experience and affiliation to present the viewpoint of employers in the construction industry-five employer representatives will be appointed;

• Five members who are similarly qualified to present the viewpoint of employees in the construction industry-five employee representatives will be appointed;

• Two representatives of State safety and health agencies-two representatives from a State safety and health agency will be appointed;

• Two public members, qualified by knowledge and experience to make a useful contribution to the work of ACCSH, such as those who have professional or technical experience and competence with occupational safety and health in the construction industry-two public representatives will be appointed; and

• One representative designated by the Secretary of the Department of Health and Human Services and appointed by the Secretary-no new appointment will be made.

Any interested person or organization may nominate one or more individuals for membership on ACCSH. Interested persons also are invited and encouraged to submit statements in support of nominees.

C. Submission Requirements

Nominations must include the following information:

• Nominee's contact information and current employment or position;

• Nominee's résumé or curriculum vitae, including prior membership on ACCSH and other relevant organizations and associations;

• Category of membership (employer, employee, public, State safety and health agency) that the nominee is qualified to represent;

• A summary of the background, experience, and qualifications that addresses the nominee's suitability for each of the nominated membership categories;

• Articles or other documents the nominee has authored that indicate the nominee's knowledge, experience, and expertise in occupational safety and health, particularly as it pertains to the construction industry; and

• A statement that the nominee is aware of the nomination, is willing to regularly attend and participate in ACCSH meetings, and has no conflicts of interest that would preclude membership on ACCSH.

D. Member Selection

The Department of Labor is committed to equal opportunity in the workplace and seeks broad-based and diverse ACCSH membership. To the extent permitted by FACA and other laws, ACCSH membership will be consistent with achieving the greatest impact, scope, and credibility among diverse stakeholders. The diversity in such membership includes, but is not limited to, race, sex, disability, sexual orientation, and gender identity. The Secretary will select the ACCSH members on the basis of their experience, knowledge, and competence in the field of occupational safety and health, particularly as it pertains to the construction industry. Information received through this nomination process, in addition to other relevant sources of information, will assist the Secretary in making these appointments to ACCSH. The Secretary will consider individuals nominated in response to this Federal Register document, as well as other qualified individuals, in selecting members to ACCSH. OSHA will publish a list of ACCSH members in the Federal Register.

Authority and Signature

James S. Frederick, Deputy Assistant Secretary of Labor for Occupational Safety and Health, authorized the preparation of this notice pursuant to 29 U.S.C. 655, 40 U.S.C. 3704, Secretary of Labor's Order No. 8-2020 (85 FR 58393), 5 U.S.C. App. 2, and 29 CFR part 1912.

Signed at Washington, DC, on November 22, 2022.
James S. Frederick,
Deputy Assistant Secretary of Labor for Occupational Safety and Health.

[FR Doc. 2022-25976 Filed 11-28-22; 8:45 am]

BILLING CODE 4510-26-P